SECURITIES AND EXCHANGE COMMISSION

[Release No. 34-59574; File No. 4-533]

Joint Industry Plan; Notice of Filing and Immediate Effectiveness of Amendment No. 2 to the National Market System Plan for the Selection and Reservation of Securities Symbols To Modify Certain Effective Dates in Plan, Submitted by NASDAQ OMX BX, Inc., the Chicago Stock Exchange, Inc., the Chicago Board Options Exchange, Incorporated, the International Securities Exchange, LLC., the Financial Industry Regulatory Authority, Inc., the National Stock Exchange, Inc., the NASDAQ Stock Market LLC, the New York Stock Exchange LLC, NYSE Alternext U.S. LLC, NYSE Arca, Inc., and the NASDAQ OMX PHLX, Inc.

March 13, 2009.

I. Introduction

Pursuant to Section 11A(a)(3) of the Securities Exchange Act of 1934 (“Act”) ¹ and Rule 608 thereunder,² notice is hereby given that on March 6, 2009, NASDAQ OMX BX, Inc., the Chicago Stock Exchange, Inc. (“CHX”), the Chicago Board Options Exchange, Incorporated, the International Securities Exchange, LLC., the Financial Industry Regulatory Authority, Inc. (“FINRA”), the National Stock Exchange, Inc. (“NSX”), The NASDAQ Stock Market LLC (“Nasdaq”), the New York Stock Exchange LLC, NYSE Alternext Exchange U.S. LLC, NYSE Arca, Inc., and the NASDAQ OMX PHLX, Inc. (“Phlx”) (together, the “Parties”) filed with the Securities and Exchange Commission (“Commission”) Amendment No. 2 to the National Market System Plan for the Selection and Reservation of Securities Symbols (“Symbology Plan” or “Plan”).³ The amendment modifies certain effective dates in the Symbology Plan. The Commission is publishing this notice of filing and immediate effectiveness to solicit comments on the amendment from interested persons.

¹ 15 U.S.C. 78k-1(a)(3).

² 17 CFR 242.608.

³ On November 6, 2008, the Commission approved the Symbology Plan that was originally proposed by the CHX, Nasdaq, FINRA, NSX, and Phlx, subject to certain changes. See Securities Exchange Act Release No. 58904, 73 FR 67218 (November 13, 2008) (File No. 4-533).

II. Description and Purpose of the Amendment

The purpose of Amendment No. 2 is to: (i) delay the start of the 30 initial symbol reservation period until 145 days after the Commission's approval of the Plan, and (ii) delay the establishment of the Plan as the exclusive method of allocating symbols of one-, two-, three-, four-, and five-characters in length until 175 days after the Commission approval of the Plan. Pursuant to this Amendment, the initial symbol reservation period would now commence on April 1, 2009 and the Symbology Plan would become the exclusive method of allocating symbols of one-, two-, three-, four-, and five-characters in length on April 30, 2009. The purpose of the amendment is to give the parties adequate time to properly evaluate and select the Plan processor and to implement the Plan in an organized fashion.

III. Effectiveness of the Proposed Symbology Plan Amendment

Pursuant to paragraph (b)(3)(ii) of Rule 608 under the Act,⁴ the Parties have designated this amendment as one that may be put into effect upon filing with the Commission as it is concerned solely with the administration of the Plan.

⁴ 17 CFR 242.608(b)(3)(ii).

The Commission may summarily abrogate the amendment within sixty days of its filing and require refiling and approval of the Amendment by Commission order pursuant to Rule 608(b)(2) ⁵ under the Act if it appears to the Commission that such action is necessary or appropriate in the public interest, for the protection of investors, or the maintenance of fair and orderly markets, to remove impediments to, and perfect mechanisms of, a national market system or otherwise in furtherance of the purposes of the Act.⁶

⁵ 17 CFR 242.608(b)(2).

⁶ 17 CFR 242.608(b)(3)(iii).

IV. Solicitation of Comments

Interested persons are invited to submit written data, views and arguments concerning the foregoing, including whether Amendment No. 2 is consistent with the Act. Comments may be submitted by any of the following methods:

Electronic Comments

• Use the Commission's Internet comment form (http://www.sec.gov/rules/sro.shtml); or

• Send an e-mail to rule-comments@sec.gov. Please include File Number 4-533 on the subject line.

Paper Comments

• Send paper comments in triplicate to Elizabeth M. Murphy, Secretary, Securities and Exchange Commission, 100 F Street, NE., Washington, DC 20549-1090.

All submissions should refer to File Number 4-533. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, on official business days between the hours of 10 a.m. and 3 p.m. Copies of the filing also will be available for inspection and copying at the principal office of the Exchange. All comments received will be posted without change; the Commission does not edit personal identifying information from submissions. You should submit only information that you wish to make available publicly. All submissions should refer to File Number 4-533 and should be submitted on or before April 10, 2009.

For the Commission, by the Division of Trading and Markets, pursuant to delegated authority.⁷
⁷ 17 CFR 200.30-3(a)(12).
Florence E. Harmon,
Deputy Secretary.

[FR Doc. E9-6085 Filed 3-19-09; 8:45 am]

BILLING CODE